DEPARTMENT OF HEALTH AND HUMAN SERVICES

Centers for Medicare & Medicaid Services

[Document Identifier: CMS-R-205, CMS-718BP, 719BP, 720BP, 721BP, SUM, STAFFING, SC1 and SC2, CMS 10187]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Information Collection Requirements Referenced in HIPAA, Title 1 for the Individual Market, supporting regulations at 45 CFR 148.120, 148.122, 148.124, 148.126, and 148.128, and Forms/instructions; Use: The provisions of Title I of the Health Insurance Portability and Accountability Act of 1996 (HIPAA) amend the Public Health Service Act (PHS Act) and are designed to make it easier for people to get access to health care coverage, reduce the limitations that can be put on the coverage, and limit the issuers' ability to terminate coverage. This information collection requirement will ensure that issuers in the individual market comply with Title 1 of HIPAA, provide individuals with certificates of creditable coverage necessary to demonstrate prior creditable coverage, file the necessary documentation with CMS for review in States that have Federal direct enforcement, and ensure States' flexibility to implement State alternative mechanisms. Individuals and their dependents need certificates of creditable coverage to take advantage of the rights they have under HIPAA. States and CMS need the information supplied by issuers to properly perform their regulatory functions under HIPAA and or existing State law.; Form Number: CMS-R-205 (OMB#: 0938-0703); Frequency: Recordkeeping, Third party disclosure, and Reporting—On Occasion; Affected Public: Individuals or Households, Business or other for-profit, Not-for-profit institutions and Federal, State, Local or Tribal Government; Number of Respondents: 1,042; Total Annual Responses: 2,987,501; Total Annual Hours: 868,147.

2. Type of Information Collection Request: Extension of a currently approved collection; Title of Information Collection: Business Proposal Forms for Quality Improvement Organizations (QIOs); Use: The submission of proposal information by current QIOs and other bidders, on the appropriate forms, will satisfy CMS's need for meaningful, consistent, and verifiable data with which to evaluate contract proposals. The Government will be able to compare the costs reported by the QIOs on the cost reports to the proposed costs noted on the business proposal forms. Subsequent contract and modification negotiations will be based on historic cost data. The business proposal forms will be one element of the historical cost data from which we can analyze future proposed costs. In addition, the business proposal format will standardize the cost proposing and pricing process among all QIOs. With well-defined cost centers and line items, proposals can be compared among QIOs for reasonableness and appropriateness; Form Number: CMS-718BP, 719BP, 720BP, 721BP, SUM, STAFFING, SC1 and SC2 (OMB#: 0938-0579); Frequency: Reporting—Triennially; Affected Public: Not-for-profit institutions, Business or other for-profit; Number of Respondents: 20; Total Annual Responses: 20; Total Annual Hours: 455.

3. Type of Information Collection Request: New collection; Title of Information Collection: Evaluation of the Demonstration of Coverage of Chiropractic Services Under Medicare; Use: Section 651 of the Medicare Prescription Drug, Improvement and Modernization Act of 2003, authorizes a two-year demonstration “to evaluate the feasibility and advisability of covering chiropractic services under Medicare”. The Demonstration aims to evaluate both the costs and the benefits of expanded coverage for chiropractic services. The evaluation will examine the achievements as well as the difficulties inherent in demonstration implementation. The study includes a descriptive evaluation of the program, a survey of a total of 2,000 beneficiaries using expanded services, analyses of medical claims to determine service utilization and expenditures, as well as the cost impact on the Medicare program. These data will allow the researchers to examine use, effectiveness, and satisfaction of Medicare beneficiaries with the chiropractic services they receive in relation to their demographic and clinical characteristics. The results will help CMS to understand the user's experience with chiropractic services and with this Medicare demonstration; Form Number: CMS-10187 (OMB#: 0938-New); Frequency: Reporting—Monthly; Affected Public: Individuals or Households; Number of Respondents: 2000; Total Annual Responses: 2000; Total Annual Hours: 667.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on May 9, 2006. CMS, Office of Strategic Operations and Regulatory Affairs, Division of Regulations Development—C, Attention: Bonnie L Harkless, Room C4-26-05, 7500 Security Boulevard, Baltimore, Maryland 21244-1850.

Dated: February 8, 2006.
Michelle Shortt,
Director, Regulations Development Group, Office of Strategic Operations and Regulatory Affairs.

[FR Doc. 06-2165 Filed 3-9-06; 8:45 am]

BILLING CODE 4120-01-P